DEPARTMENT OF ENERGY

Federal Energy Regulatory Commission

[Docket No. CP24-468-000]

Texas Gas Transmission, LLC, Gulf South Pipeline Company, LLC; Notice of Schedule for the Preparation of an Environmental Assessment for the Eunice Reliability and Lake Charles Supply Project

On May 8, 2024, Texas Gas Transmission, LLC (Texas Gas) and Gulf South Pipeline Company, LLC (Gulf South) filed an application in Docket No. CP24-468-000 requesting a Certificate of Public Convenience and Necessity and abandonment authorization pursuant to Sections 7(b) and 7(c) of the Natural Gas Act (NGA) and Part 157 of the Commission's regulations to construct, operate and abandon certain natural gas pipeline facilities. The proposed project is known as the Eunice Reliability and Lake Charles Supply Project (Project) and would: (1) replace five existing reciprocating compressor units with two new Solar T70 and T60 units at the Texas Gas existing Eunice Compressor Station in Acadia Parish, Louisiana; and (2) install overpressure protection at its existing Woodlawn Junction in Jefferson Davis Parish, Louisiana. The Project would create 120,000 dekatherms per day (Dth/d) of new transportation capacity on Texas Gas' system that would be leased to Gulf South to meet its customers' needs in the Lake Charles area, including an electric utility and two natural gas marketers.

On May 21, 2024, the Federal Energy Regulatory Commission (Commission or FERC) issued its Notice of Application for the Project. Among other things, that notice alerted agencies issuing Federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.¹ The EA will be issued for a 30-day comment period.

¹ In accordance with the Council on Environmental Quality's regulations, the unique identification number for documents relating to this environmental review is EAXX-019-20-000-1725459309. 40 CFR 1501.5(c)(4) (2024).

Schedule for Environmental Review

Issuance of EA—January 31, 2025

90-day Federal Authorization Decision Deadline ²—May 1, 2025

² The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

The Project would consist of the following facilities:

• replace four 1,100 horsepower and one 2,250 horsepower reciprocating units with one 8,968 horsepower Solar T-70 gas-fired, turbine-driven unit and one 6,391 horsepower Solar T60 gas-fired, turbine-driven unit, and appurtenances at the Eunice Compressor Station in Acadia Parish, Louisiana; and

• install overpressure protection at the existing Woodlawn Junction in Jefferson Davis Parish, Louisiana.

Background

On June 10, 2024, the Commission Issued a Notice of Scoping Period Requesting Comments on Environmental Issues for the Eunice Reliability and Lake Charles Supply Project (Notice of Scoping). The Notice of Scoping was sent to affected landowners; Federal, State, and local government agencies; elected officials; environmental and public interest groups; Native American Tribes; other interested parties; and local libraries and newspapers. In response to the Notice of Scoping, the Commission received four comments from the Louisiana Ecological Services Office, U.S. Environmental Protection Agency—Region 6, Choctaw Nation of Oklahoma, and Restore (Restore Explicit Symmetry To Our Ravaged Earth). All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP24-468-000), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: September 20, 2024.
Debbie-Anne A. Reese,
Acting Secretary.

[FR Doc. 2024-22080 Filed 9-25-24; 8:45 am]

BILLING CODE 6717-01-P